INTER-AMERICAN FOUNDATION

Sunshine Act Meeting; Draft Agenda for Board of Directors Meeting, January 21, 2005, 9 a.m.-12:30 p.m.

The meeting will be held at the Office of Entergy Corporation, 101 Constitution Avenue, NW., Suite 200 East, Washington, DC 20001.

The meeting will be closed as provided in 22 CFR 1004.4(f) to discuss matters related to the search for candidates for the position of President of the Inter-American Foundation.

9 a.m. Call to order. Begin executive session.

12 p.m. Break for lunch.

1:30 p.m. Continue executive session.

4 p.m. Close.

Jocelyn Nieva,
Acting General Counsel.

[FR Doc. 05-1023 Filed 1-13-05; 12:10 pm]

BILLING CODE 7025-01-M